ENVIRONMENTAL PROTECTION AGENCY

40 CFR Part 52

[EPA-R01-OAR-2025-0076; FRL-12691-02-R1]

Air Plan Approval; Connecticut; 2017 Base Year Emissions Inventory for the 2015 8-Hour Ozone National Ambient Air Quality Standards

AGENCY: Environmental Protection Agency (EPA).

ACTION: Final rule.

SUMMARY: The Environmental Protection Agency (EPA) is approving State Implementation Plan (SIP) revisions submitted by the State of Connecticut that relate to the 2015 8-hour ozone National Ambient Air Quality Standards (NAAQS). The SIP revisions are for the Greater Connecticut and the Connecticut portion of the New York-Northern New Jersey-Long Island, NY-NJ-CT ozone nonattainment areas. This action will approve submittals which include the 2017 base year emissions inventories for these two nonattainment areas for the 2015 Ozone National Ambient Air Quality Standard. This action is being taken under the Clean Air Act (CAA).

DATES: This rule is effective on August 15, 2025.

ADDRESSES: EPA has established a docket for this action under Docket ID No. EPA-R01-OAR-2025-0076. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection.

FOR FURTHER INFORMATION CONTACT: Patrick Lillis, Air and Radiation Division (Mail Code 5-MI), U.S. Environmental Protection Agency—Region 1, 5 Post Office Square, Suite 100, Boston, Massachusetts, 02109-3912; telephone number: (617) 918-1067, email address: lillis.patrick@epa.gov.

SUPPLEMENTARY INFORMATION: Throughout this document whenever “we,” “us,” or “our” is used, we mean EPA.

Table of Contents

I. Background

II. Response to Comments

III. Final Action

IV. Statutory and Executive Order Reviews

I. Background

The Notice of Proposed Rulemaking (NPRM) proposed approval of SIP revisions submitted by the State of Connecticut that relate to the 2015 Ozone National Ambient Air Quality Standards. The SIP revisions included the 2017 base year emissions inventories for the Greater Connecticut and the Connecticut portion of the New York-Northern New Jersey-Long Island, NY-NJ-CT ozone nonattainment areas. We proposed to find that the emissions inventories were prepared in accordance with the requirements of CAA sections 172(c)(3) and 182(a)(1). The EPA is now finalizing the proposed approval of Connecticut's 2017 base year emissions inventories for the 2015 Ozone NAAQS.

II. Response to Comments

EPA received four comments during the comment period, all of which are available in the docket for this rulemaking action. Three of the comments urge EPA to take the action proposed: to approve Connecticut's base year emissions inventories. One of these three also raises additional topics outside the scope of the current action. That comment includes recommendations to “enhance the effectiveness” of the base year emission inventory. However, those recommendations are not within the scope of EPA's approval. For example, one recommendation is to ensure regular updates to emission inventories. This EPA action concerns a base year inventory submitted in accordance with CAA sections 172(c)(3) and 182(a)(1). The requirement to submit a revised inventory is separate from the base year inventory. See CAA section 182(a)(3)(A). Since this action does not entail any revised inventory, this recommendation is out of scope. Similarly, the other recommendations concerning stronger enforcement mechanism and public awareness campaigns are unrelated to the base year inventory. The fourth comment focuses mainly on a recommendation for reducing ozone levels with catalytic converters that is outside the scope of the current action. In addition, the comments do not assert, or explain how, EPA approval of this action would be erroneous or otherwise inconsistent with the CAA, applicable regulations, or other authorities. As such, the comments require no further response to finalize the action as proposed.

III. Final Action

For the reasons described in our April 7, 2025, notice of proposed rulemaking,¹ EPA is taking final action to approve Connecticut's 2017 base year emissions inventories for the 2015 ozone NAAQS as a revision to the Connecticut SIP.

¹ 90 FR 14935.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

The Congressional Review Act (CRA), 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by September 15, 2025. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Nitrogen dioxide, Ozone, Reporting and recordkeeping requirements, Volatile organic compounds.

Dated: June 30, 2025.
Mark Sanborn,
Regional Administrator, EPA Region 1.

For the reasons stated in the preamble, the Environmental Protection Agency amends part 52 of chapter I, title 40 of the Code of Federal Regulations to read as follows:

PART 52—APPROVAL AND PROMULGATION OF IMPLEMENTATION PLANS

1. The authority citation for part 52 continues to read as follows:

Authority: 42 U.S.C. 7401 et seq.

Subpart H-Connecticut

2. Section 52.370 is amended by adding paragraph (c)(137) to read as follows:

§ 52.370 Identification of plan.

* * * * *

(c) * * *

(137) Revisions to the State Implementation Plan submitted by the Connecticut Department of Energy and Environmental Protection on May 3, 2024

(i) [Reserved]

(ii) Additional materials.

(A) Letter from the Connecticut Department of Energy and Environmental Protection, dated May 3, 2024, submitting revision to the Connecticut State Implementation Plan.

(B) [Reserved]

3. Section 52.384 is amended by adding paragraph (f) to read as follows:

§ 52.384 Emission inventories.

* * * * *

(f) The State of Connecticut submitted base year emission inventories representing emissions for calendar year 2017 from the Connecticut portion of the NY-NJ-CT moderate 8-hour ozone nonattainment area and the Greater Connecticut marginal 8-hour ozone nonattainment area on May 3, 2024, as revisions to the State's SIP. The 2017 base year emission inventory requirement of section 182(a)(1) of the Clean Air Act, as amended in 1990, has been satisfied for these areas. The inventories consist of emission estimates of volatile organic compounds and nitrogen oxides, and cover point, area, non-road mobile, on-road mobile and biogenic sources. The inventories were submitted as revisions to the SIP in partial fulfillment of obligations for nonattainment areas under EPA's 2015 8-hour ozone standard.

[FR Doc. 2025-13331 Filed 7-15-25; 8:45 am]

BILLING CODE 6560-50-P